DEPARTMENT OF STATE

[Public Notice 7515]

30-Day Notice of Proposed Information Collection: DS-573, DS-574, DS-575, and DS-576, Overseas Schools—Grant Request Automated Submissions Program (GRASP)

ACTION: Notice of request for public comment and submission to OMB of proposed collection of information.

SUMMARY: The Department of State has submitted the following information collection request to the Office of Management and Budget (OMB) for approval in accordance with the Paperwork Reduction Act of 1995.

• Title of Information Collection: Grant Request Automated Submissions Program (GRASP).

• OMB Control Number: 1405-0036.

• Type of Request: Extension of a Currently Approved Collection.

• Originating Office: Office of Overseas Schools, A/OPR/OS.

• Form Number: DS-573, DS-574, DS-575, and DS-576.

• Respondents: Recipients of grants.

• Estimated Number of Respondents: 196.

• Estimated Number of Responses: 196.

• Average Hours Per Response: 90 minutes.

• Total Estimated Burden: 294 hours.

• Frequency: Annually.

• Obligation to Respond: Required to obtain a benefit.

DATES: Submit comments to the Office of Management and Budget (OMB) for up to 30 days from July 6, 2011.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Keith Miller, Office of Overseas Schools, U.S. Department of State, Room H-328, 2301 C Street, NW., Washington, DC 20522-0132, who may be reached on 202-261-8200 or at millerkd2@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The Office of Overseas Schools of the Department of State (A/OPR/OS) is responsible for determining that adequate educational opportunities exist at Foreign Service posts for dependents of U.S. Government personnel stationed abroad and for assisting American-sponsored overseas schools to demonstrate U.S. educational philosophy and practice. The information gathered enables A/OPR/OS to advise the Department and other foreign affairs agencies regarding current and constantly changing conditions, and enables A/OPR/OS to make judgments regarding assistance to schools for the improvement of educational opportunities.

Methodology

Information is collected via electronic media.

Additional Information:

Dated: May 24, 2011.
Matthew S. Klimow,
Executive Director, Bureau of Administration, Department of State.

[FR Doc. 2011-16899 Filed 7-5-11; 8:45 am]

BILLING CODE 4710-24-P